DEPARTMENT OF COMMERCE

National Oceanic and Atmospheric Administration

[I.D. 101102H]

Fisheries of the Exclusive Economic Zone Off Alaska; Groundfish Fisheries in the Gulf of Alaska

AGENCY: National Marine Fisheries Service (NMFS), National Oceanic and Atmospheric Administration (NOAA), Commerce.

ACTION: Notice of public scoping meeting for a supplemental environmental impact statement (SEIS).

SUMMARY: NMFS announces a public scoping meeting to determine issues for an SEIS for the Fishery Management Plan for Groundfish of the Gulf of Alaska (FMP) in accordance with the National Environmental Policy Act of 1969 (NEPA). The North Pacific Fishery Management Council (Council) is proposing management measures to improve the economic efficiency of the Gulf of Alaska (GOA) groundfish fisheries which also may address conservation, safety, and social concerns. The Council is considering one or more methods of allocating fishing privileges such as: individual fishing quotas (IFQs); individual processing quotas (IPQs); allocations to communities; fishing cooperatives program; or other measures.

DATES: The public scoping meeting will be held on Friday, October 25, 2002, from 1 to 4 p.m. Written comments will be accepted through November 15, 2002 (see ADDRESSES).

ADDRESSES: The meeting will be held at the Hilton Anchorage Hotel, Spruce Room, 500 West Third Avenue, Anchorage, AK.

Written comments on issues and alternatives for the SEIS should be sent to Sue Salveson, Assistant Regional Administrator for Sustainable Fisheries, Alaska Region, NMFS, P.O. Box 21668, Juneau, AK 99802, Attn: Lori Gravel-Durall, or delivered to the Federal Building, 709 West 9th Street, Juneau, AK. Comments may be sent via facsimile (fax) to 907-586-7557. NMFS will not accept comments by e-mail or internet.

An analysis of the issues and alternatives will be available through the North Pacific Fishery Management Council, 605 West 4th, Suite 306, Anchorage, AK 99501-2252.

FOR FURTHER INFORMATION CONTACT: Glenn Merrill, (907) 586-7228 or email: glenn.merrill@noaa.gov.

SUPPLEMENTARY INFORMATION: NMFS published a notice of intent to prepare an SEIS on May 29, 2002 (67 FR 37393). The notice of intent provides additional information on the SEIS public scoping process and may be obtained through NMFS (See ADDRESSES).

NMFS is holding public scoping meetings and accepting written comments to determine the issues of concern and the appropriate range of management alternatives to be addressed in the SEIS. NMFS has held seven public scoping hearings in Alaska at Sand Point, King Cove, Kodiak, Cordova, Homer, and Petersburg, and also in Seattle, WA. The meeting announced in this document is intended to provide an additional opportunity for public comment during the scoping period. This meeting is being held in Anchorage to help facilitate participation by Native Alaskan tribal governments attending the 2002 Conference of the Alaska Federation of Natives. NMFS will notify Native Alaskan tribal governments prior to this meeting.

Additional information on the public scoping process may be obtained through NMFS (see ADDRESSES), or via the NMFS website at http://www.fakr.noaa.gov/. The specific options for rationalization may be obtained through the Council (see ADDRESSES), or via the Council website at http://www.fakr.noaa.gov/npfmc/.

Public Involvement

NMFS is seeking written public comments on the scope of issues that should be addressed in the SEIS and alternatives and options that should be considered for management of the GOA groundfish fisheries.Public comments on specific aspects of the rationalization programs should be submitted to NMFS (see ADDRESSES). The public also will be able to provide oral and written comments at the meeting. The Council will make a draft analysis of these alternative programs available for public review and comment. Copies of the analysis can be requested from the Council (see ADDRESSES).

Special Accommodations

This meeting is physically accessible to people with disabilities. Requests for sign language interpretation or other auxiliary aids should be directed to Glenn Merrill, NMFS, (see ADDRESSES), (907) 586-7228, at least 5 days prior to the meeting date.

Authority: 16 U.S.C. 1801 et. seq.

Dated: October 18, 2002.
Bruce C. Morehead,
Acting Director, Office of Sustainable Fisheries, National Marine Fisheries Service.

[FR Doc. 02-26978 Filed 10-22-02; 8:45 am]

BILLING CODE 3510-22-S